DEPARTMENT OF DEFENSE

Office of the Secretary

[Docket ID: DoD-2013-OS-0115]

Privacy Act of 1974; System of Records

AGENCY: National Geospatial-Intelligence Agency, DoD.

ACTION: Notice to alter a System of Records.

SUMMARY: The National Geospatial-Intelligence Agency is altering a system of records in its inventory of record systems subject to the Privacy Act of 1974 (5 U.S.C. 552a), as amended.

DATES: This proposed action will be effective on July 16, 2013 unless comments are received which result in a contrary determination. Comments will be accepted on or before July 15, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpclo.defense.gov/privacy/SORNs/component/ngia/index.html. The proposed system report, as required by 5 U.S.C. 552a(r) of the Privacy Act of 1974, as amended, was submitted on May 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2013.
Aaron Siegel,
Alternate OSD Federal Register Liaison Officer, Department of Defense.

B0210-07

System name:

Inspector General Investigative and Complaint Files (June 4, 2002, 67 FR 38479)

Change System ID to read “NGA-013.”

System name:

Delete entry and replace with “National Geospatial-Intelligence Agency (NGA) Inspector General Investigative and Complaint Files.”

System location:

Delete entry and replace with “Records are maintained at NGA headquarters in Washington, DC metro facilities.”

Categories of individuals covered by the system:

Delete entry and replace with “Current and former NGA employees, military personnel, contractors, members of the public who make an inquiry or file a complaint or allegation involving NGA.”

Categories of records in the system:

Delete entry and replace with “Identifying information, such as name, address, telephone numbers, email addresses, employee identification number, job title and band, supervisor's contact information, company name, witness information and statements, military branch, rank, financial information, adverse information, technical reports, record of interviews, exhibits and photographs, Social Security Number (SSN), and sworn testimonies.

Investigative/complaint files, inquiries or investigative reports pertaining to complaints, allegations of fraud, waste, abuse, mismanagement, malfeasance, or reprisal as procedures pertaining to NGA personnel, procedures, policies or programs. Files may contain Reports of Investigation, sworn testimony, letters, memorandums and working papers regarding developed or obtained as a result of investigation or complaint wherein someone has made allegations of violations involving fraud, waste, abuse, mismanagement, reprisal, denial of due process pertaining to NGA personnel, programs, policies and/or procedures developed or obtained as a result of the investigation or complaint.

Letters/transcriptions of complaints, allegations and queries; letters of appointment; reports of reviews, inquiries and investigations with supporting attachments, exhibits and photographs; record of interviews; witness statements; reports of legal review of case files, congressional responses; memoranda; letters and reports of findings and actions taken; letters to complainants and subjects of investigations; letters of rebuttal from subjects of investigations; finance; personnel; administration; adverse information, and technical reports.”

Authority for maintenance of the system:

Delete entry and replace with “5 U.S.C. 301, Departmental Regulations, 5 U.S.C. App., Inspector General Act of 1978, 10 U.S.C. 1612 citing 5 U.S.C. 2301, 44 U.S.C. 3545(c)(1), E.O. 12333, United States Intelligence Activities, as amended; and E.O. 9397 (SSN), as amended.”

Purpose(s):

Delete entry and replace with “To analyze and evaluate the effectiveness and efficiency of NGA policies, programs, procedures, activities, and operations for the purpose of detecting and preventing fraud, waste and abuse. Additionally, the system is used to resolve complaints and inquiries, and to initiate proper corrective action if the allegation is proven to be true in fact as well as to be used for corrective action.”

* * * * *

Policies and practices for storing, retrieving, accessing, retaining, and disposing of records in the system:

Storage:

Delete entry and replace with “Records in this system are stored electronically.”

Retrievability:

Delete entry and replace with “Records may be retrieved by name or SSN.”

Safeguards:

Delete entry and replace with “Records in this system are safeguarded in accordance with applicable rules and policies, including all applicable NGA automated systems security and access policies. Strict controls have been imposed to minimize the risk of compromising the information that is being stored. Access to the computer system containing the records in this system is limited to those individuals who have a need to know the information for the performance of their official duties and who have appropriate clearances or permissions. Some of the technical controls include, limited, role based access as well as profiles based access to limit users to only data that is needed for the performance of their official duties. The system is located in a secure data center and operated by Federal personnel.”

Retention and disposal:

Delete entry and replace with “Investigative records are cutoff and retired when 15 years old, then destroyed/deleted 10 years after cutoff.”

System manager(s) and address:

Delete entry and replace with “Assistant Inspector General for Plans and Programs, Office of the Inspector General, National Geospatial-Intelligence Agency (NGA), 7500 GEOINT Drive, Springfield, VA 22150.”

Notification procedure:

Delete entry and replace with “Individuals seeking to determine whether this system of records contains information about themselves should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or submitted under 28 U.S.C. 1746, a law that permits statements to be made under penalty of perjury, as a substitute for notarization. A request for notification must meet the requirements of 32 CFR 320.4.”

Record access procedures:

Delete entry and replace with “Individuals seeking access to information about themselves contained in this system of records should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or submitted under 28 U.S.C. 1746, a law that permits statements to be made under penalty of perjury, as a substitute for notarization. A request for notification must meet the requirements of 32 CFR 320.4.”

Contesting record procedure:

Delete entry and replace with “Individuals contesting the accuracy of records in this system of records contains information about themselves should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or submitted under 28 U.S.C. 1746, a law that permits statements to be made under penalty of perjury, as a substitute for notarization. A request for notification must meet the requirements of 32 CFR 320.4.”

Record source categories:

Delete entry and replace with “Information originates from the individual and from sources contacted during personnel and background investigations.”

* * * * *

[FR Doc. 2013-14051 Filed 6-12-13; 8:45 am]

BILLING CODE 5001-06-P